DEPARTMENT OF DEFENSE

Department of the Army; Corps of Engineers

Intent to Prepare a Draft Environmental Impact Statement for the Relocation of Bogue Inlet Channel between Emerald Isle and Hammocks Beach State Park, and the Placement of the Dredged Material onto Emerald Isle Beach, in Carteret County, NC

AGENCY: Department of the Army, U.S. Army Corps of Engineers, DoD.

ACTION: Notice of intent.

SUMMARY: The U.S. Army Corps of Engineers (COE), Wilmington District, Wilmington Regulatory Field Office has received a request for Department of the Army authorization, pursuant to Section 404 of the Clean Water Act and Section 10 of the Rivers and Harbor Act, from the Town of Emerald Isle for the relocation of Bogue Inlet Channel to protect residential homes and town infrastructures, and to place the dredged material on approximately 5.0 miles of beach for nourishment. The project is being proposed to move the main ebb channel in Bogue Inlet to a more central location between the west end of Bogue Banks and the east end of Bear Island (Hammocks Beach State Park). The main ebb channel through Bogue Inlet presently occupies a position juxtaposted to the west end of the Town of Emerald Isle and is causing severe erosion that threatens development in the subdivision known as The Pointe. The relocation of the main ebb channel to a central location would restore the channel to a position it occupied in the late 1970's and eliminate the erosive impact of tidal currents on the east shoulder of the inlet. A portion of the material removed to relocate the main ebb channel would be used to close the existing channel with the balance of the material used to nourish the shoreline on the west end of the Town of Emerald Isle.

The channel through Bogue Inlet has been maintained by the COE for commercial and recreational boating interest since 1981. The COE is authorized to maintain the channel to a depth of 8 feet mean low water (mlw) over a width of 150 feet. Any changes in the location of the ebb tide delta channel would be consistent with this maintenance criteria.

DATES: A public scoping meeting for the Draft Environmental Impact Statement (EIS) will be held at the White Oak River Elementary School, on NC Highway 24, in Cape Carteret, on October 29, 2002 at 6:30 p.m. Written comments will be received until November 24, 2002.

ADDRESSES: Copies of comments and questions regarding scoping of the Draft EIS may be addressed to: U.S. Army Corps of Engineers, Wilmington District, Regulatory Division. ATTN: File Number 2001-00632, Post Office Box 1890, Wilmington, NC 28402-1890.

FOR FURTHER INFORMATION CONTACT: Questions about the proposed action and DEIS can be directed to Mr. Mickey Sugg, Wilmington Regulatory Field Office, telephone: (910) 251-4811.

SUPPLEMENTARY INFORMATION:

1. Project Descritpion

The Town of Emerald Isle, located along the western 11.2 miles of Bogue Banks, North Carolina, is proposing to reposition the main ebb tide channel (or bar channel) through Bogue Inlet as a means to address a severe erosion problem that is threatening development and town infrastructure located on the west end of the town in an area known as The Pointe. The severe erosion at the Pointe is occurring as a result of the eastward migration of the main ebb channel of Bogue Inlet. An analysis of historic photographs of the inlet indicates that the midpoint of the channel has experienced movements to both the west and east with the latest trend being toward the east. Since September 1981, the channel midpoint migrated a total of over 3,900 feet to the east, however, a majority of this movement occurred between September 1981 and February 1984. From February 1984 to September 2001, the channel moved slightly more than 1,500 feet to the east, which represents an annual rate of 104 feet/year. The eastward movement of the channel has been accompanied by erosion of the Bogue Banks shoulder of the inlet (the Pointe shoreline) with the rate of erosion of this shoreline averaging 56 feet/year between February 1984 and September 2001. If this rate of erosion of the Pointe shoreline continues unabated, it is estimated that 30 to 50 structures could be lost or severely damaged during the next 5 to 10 years. In addition, 300 to 600 feet of Inlet Drive could be lost along with side streets and utilities serving the Pointe subdivision.

Secondary features of the proposed project includes using a portion of the dredged material to close the existing ebb channel with the balance of the material used to nourish the beach along the west end of the Town of Emerald Isle. In this regard, the Town of Emerald Isle presently has permits to nourish 51,00 feet (9.68 miles) of ocean shoreline using offshore borrow areas. Approximately 5.8 miles of this shoreline is to be nourished between November 16, 2002 and April 15, 2003. The Emerald Isle beach nourishment project is part of an island-wide project sponsored by Carteret County. The County project covers approximately 16.8 miles of ocean shoreline and begins at the east town limits of the Town of Pine Knoll Shores and ends at a point 8,000 feet (1.5 miles) east of Bogue Inlet.

2. Proposed Action

The primary purpose of the channel relocation project is to create a stable channel that will divert tidal flow away from the Pointe area of Emerald Isle. Therefore, the design focus is on developing channel dimensions that will capture the majority of the ebb tidal flow through the inlet. An added feature of the overall design would be the closure of the existing channel by constructing a sand dike across the existing channel in the vicinity of the Pointe. The dimensions of the relocated channel will be based on characteristics of the existing ebb tide channel, numerical model studies of tides and currents in the inlet, and channel stability criteria. The numerical model will also be used to evaluate the need for and impacts of closing the existing channel as well as assess the impacts of the repositioned channel on salinity intrusion and flow patterns throughout the entire inlet/estuary complex.

Apart from the channel dimensions, the new channel must be position so that it does not cause adverse impacts on the adjacent shorelines or result in unacceptable loss of estuarine habitat. The selection of a channel location is being based on detailed geomorphic analysis of the inlet and adjacent shorelines, conducted by Dr. William J. Cleary, University of North Carolina at Wilmington. The geomorphic analysis will utilize an assortment of aerial photographs of the inlet covering the period from 1938 to 2001. However the primary emphasis will be on changes in the inlet and the adjacent shorelines between 1973 and 2001. The geomorphic analysis consists of an evaluation of the following: (a) location of the channel midpoint relative to the Pointe; (b) the orientation of the inlet's ebb tide delta channel; (c) the configuration of the ebb tide delta i.e., the percent of the ebb tide delta east and west of the main ebb channel; (d) inlet shoulder changes (the Pointe shoreline and the west tip of Bear Island); (e) changes in the ocean shoreline on the west end of Bogue Banks and the east end of Bear Island (Hammocks Beach State Park); and (f) changes in the interior marsh islands (primarily Dudley Island and Island 2). The measured changes the adjacent shorelines, inlet shoulders, and the interior marshes will be related to changes in the physical makeup of the inlet including the position and orientation of the ebb tide delta channel and the configuration of the ebb tide delta.

Geomorphic analysis indicates that the cumulative shoreline changes on each island were averaged over 3,500 feet of shoreline immediately adjacent to the inlet. When the percent of the ebb tide delta on the Bogue Banks side is small, as it was between 1984 and 2001, the bar channel was located close to Bogue Banks and the portion of the delta on the Bogue Banks side was providing some degree of wave sheltering for the west end of the island. This particular ebb tide delta configuration resulted in a considerable amount of accretion along of 3,500-foot shoreline immediately east of the inlet while Bear Island experienced an almost mirror image response on its ocean shoreline, i.e., erosion. Even though the present ebb tide delta configuration is favorable for the extreme west end of Emerald Isle, the eastward migration of the inlet channel that led to the existing inlet configuration also caused the inlet shoreline of Bogue Banks (the Pointe shoreline) to erode. Not only has the Bogue Banks inlet shoreline eroded in response to the eastward movement of the channel, so has the Bear Island ocean and inlet shorelines. Based on these and numerous other comparisons, the preliminary results of the geomorphic analysis indicates that a centrally located channel, approximating the position and orientation of the channel in 1978, may be beneficial to the inlet shoreline on Bogue Banks (the Pointe shoreline) and the east end of Bear Island.

3. Issues

There are several potential environmental issues that will be addressed in the EIS. Additional issues may be identified during the scoping process. Issues initially identified as potentially significant include:

a. Potential impact to marine biological resources (benthic organisms, passageway for fish and other marine life, and bird nesting of foraging).

b. Potential impact to threatened and endangered marine mammals, birds, fish, and plants.

c. Potential impacts to water quality.

d. Potential increase in erosion rates to adjacent Hammocks Beach State park.

e. Sand budgeting.

f. Potential impacts to Navigation, commercial and recreational.

g. Potential impacts to the long-term Federal maintenance of the channel.

h. Potential impacts to private and public property.

i. Cumulative impacts of Inlet and Inlet channel relocations throughout North Carolina.

j. Cumulative impacts for using inlets as sand source in nourishment projects.

k. Potential impacts on public health and safety.

l. Potential impacts to recreational and commercial fishing.

m. The compatibility of the material for nourishment.

n. Potential economic impacts.

4. Alternatives

Several alternatives are being considered for the proposed project. These alternatives will be further formulated and developed during the scoping process and an appropriate range of alternatives, including the no federal action alternative, will be considered in the EIS.

5. Scoping Process

A public scoping meeting (see DATES) will be held to receive public comment and assess public concerns regarding the appropriate scope and preparation of the Draft EIS. Participation in the public meeting by federal, state, and local agencies and other interested organizations and persons is encouraged.

The COE will also be consulting with the U.S. Fish and Wildlife Service under the Endangered Species Act and the Fish and Wildlife Coordination Act, and with the National Marine Fisheries Service under the Magnuson-Stevens Act and Endangered Species Act. Additionally, the EIS will assess the potential water quality impacts pursuant to Section 401 of the Clean Water Act, and will be coordinated with the North Carolina Division of Coastal Management (DCM) to determine the projects consistency with the Coastal Zone Management Act. The COE will closely work the DCM through the EIS to ensure the process complies with all State Environmental Policy Act (SEPA) requirements. It is the COE and DCM's intentions to consolidate both NEPA and SEPA processes to eliminate duplications.

6. Availability of the Draft EIS

The Draft EIS is expected to be published and circulated sometime in 2003, and a public hearing will be held after the publication of the Draft EIS.

Dated: October 4, 2002.
Charles R. Alexander, Jr.,
Colonel, U.S. Army, District Engineer.

[FR Doc. 02-26336 Filed 10-15-02; 8:45 am]

BILLING CODE 3710-GN-M